ENVIRONMENTAL PROTECTION AGENCY

[EPA-HQ-OPPT-2023-0316; FRL-10264-01-OCSPP]

Announcing the 2024 Chemical Data Reporting Submission Period

AGENCY: Environmental Protection Agency (EPA).

ACTION: Notice.

SUMMARY: The Environmental Protection Agency (EPA) is announcing the start of the 2024 submission period for the Toxic Substances Control Act (TSCA) Chemical Data Reporting (CDR) rule. The CDR rule requires manufacturers (including importers) of chemical substances on the TSCA Inventory above an applicable regulatory threshold to report to EPA, every four years, information concerning the manufacturing, processing, and use of such chemical substances, unless exempt from this requirement under the CDR rule. For the 2024 submission period, manufacturers (including importers) are subject to the reporting requirements based on manufacturing (including importing) activities conducted during the calendar years 2020 through 2023.

DATES: The 2024 submission period is from June 1, 2024, to September 30, 2024.

ADDRESSES: The docket for this action, identified by docket identification (ID) number EPA-HQ-OPPT-2023-0316, is available at https://www.regulations.gov. Additional instructions on visiting the docket, along with more information about dockets generally, is available at https://www.epa.gov/dockets. For the latest status information on EPA/DC services and docket access, visit https://www.epa.gov/dockets.

FOR FURTHER INFORMATION CONTACT: Susan Sharkey, Data Gathering and Analysis Division (7406M), Office of Pollution Prevention and Toxics, Environmental Protection Agency, 1200 Pennsylvania Ave. NW, Washington, DC 20460-0001; telephone number: 202-564-8789; email address: sharkey.susan@epa.gov.

SUPPLEMENTARY INFORMATION:

I. Executive Summary

A. Does this action apply to me?

You may be potentially affected by this action if you manufacture (including import) chemical substances listed on the TSCA Chemical Substance Inventory. The following list of North American Industrial Classification System (NAICS) codes is not intended to be exhaustive, but rather provides a guide for readers to determine whether this document applies to them. Potentially affected entities include but are not limited to:

• Chemical manufacturers (including importers) (NAICS codes 325 and 324110, e.g., chemical manufacturing and processing and petroleum refineries).

• Chemical users and processors who may manufacture a byproduct chemical substance (NAICS codes 22, 322, 331, and 3344, e.g., utilities, paper manufacturing, primary metal manufacturing, and semiconductor and other electronic component manufacturing).

Other types of entities not included could also be affected. To determine whether your entity is affected by this action, you should carefully examine the applicability criteria found in 40 CFR 711. If you have questions regarding the applicability of this action to a particular entity, consult the person listed in the FOR FURTHER INFORMATION CONTACT section.

B. What is the Agency's authority for taking this action?

The CDR rule is required by section 8(a) of the Toxic Substances Control Act (TSCA), 15 U.S.C. 2607(a).

C. What action is the Agency taking?

EPA is reminding the public of the upcoming 2024 CDR submission period, for which reporting is due between June 1, 2024, and September 30, 2024. The CDR rule requires manufacturers (including importers) of chemical substances on the TSCA Inventory above an applicable regulatory threshold to report to EPA, every four years, information concerning the manufacturing, processing, and use of such chemical substances, unless exempt from this requirement under the CDR rule.

For the 2024 submission period, manufacturers (including importers) are subject to the reporting requirements based on manufacturing (including importing) activities conducted during the calendar years 2020 through 2023. The determination of the need to report is based on production volume during any calendar year since the last principal reporting year. As an example, for the 2024 CDR, the last principal reporting year would be 2019.

II. Background

A. What is CDR?

Under the CDR rule (40 CFR part 711), EPA collects basic exposure-related information including information on the types, quantities and uses of chemical substances produced domestically and imported into the United States. The CDR database constitutes the most comprehensive source of basic screening-level, exposure-related information on chemicals available to EPA, and is used by the Agency to protect the public from potential chemical risks.

The information is collected every four years from manufacturers (including importers) of certain chemicals in commerce generally when production volumes for the chemical are 25,000 lbs or greater for a specific reporting year. Collecting the information every four years assures that EPA and (for non-confidential data) the public have access to up-to-date information on chemicals.

B. What chemicals are covered under CDR?

Reporting is required for all chemical substances listed on the TSCA Inventory as of June 1, 2024, other than polymers, microorganisms, naturally occurring chemical substances, water, and certain forms of natural gas (40 CFR 711.5 and 711.6) when manufacture (including import) of those chemical substances otherwise triggers the reporting requirements. Chemical substances (other than naturally occurring chemical substances) that are the subject of any of the following TSCA actions are not eligible for partial or full exemptions: proposed or promulgated rules under TSCA sections 4, 5(a)(2), 5(b)(4), or 6, an enforceable consent agreement (ECA) developed under the procedures of 40 CFR part 790, an order issued under TSCA sections 4, 5(e), or 5(f), or relief that has been granted under a civil action under TSCA sections 5 or 7 (40 CFR 711.6).

C. What are the reporting thresholds for reporting entities?

You are subject to CDR reporting if you manufactured (including imported) a chemical substance above the applicable production volume at any single site you owned or controlled during any calendar year since the last CDR principal reporting year (i.e., during any of the calendar years 2020 through 2023). Note that if you trigger the need to report in any one year, you are required to report for all four years.

The reporting threshold is generally 25,000 lb; however, the threshold is 2,500 lb (1,134 kg) for any person who manufactured a chemical substance that is the subject of a rule proposed or promulgated under TSCA sections 5(a)(2), 5(b)(4) or 6; an order issued under TSCA sections 4, 5(e) or 5(f); or relief that has been granted under a civil action under TSCA sections 5 or 7. The effects of these TSCA actions on CDR reporting are assessed based on the status of the chemical substance as of the beginning of the submission period (40 CFR 711.8(b) and 40 CFR 711.15).

Small manufacturers meeting the definition at 40 CFR 704.3 are exempt from CDR requirements unless they manufacture (including import) 2,500 lb or more of a chemical substance that is the subject of a rule proposed or promulgated under sections 4, 5(b)(4), or 6 of TSCA, or is the subject of an order in effect under sections 4 or 5(e) of TSCA, or is the subject of relief that has been granted under a civil action under sections 5 or 7 of TSCA (40 CFR 711.9 and TSCA section 8(a)(3)(A)(ii)).

III. Reminders

A. How to report?

All reporting companies must report CDR data electronically, using e-CDRweb, the CDR web-based reporting tool, and EPA's Central Data Exchange (CDX) system available at: https://cdx.epa.gov/. Prior to submitting data, submitters must register with CDX.

Visit the CDR website available at: https://www.epa.gov/cdr for program updates and announcements; Instructions for Reporting and other guidance materials; and contact information for technical assistance. EPA is updating guidance materials ahead of the 2024 CDR reporting cycle and plans to publish a consolidated guidance website to improve access to all of the CDR guidance. However, existing content ahead of any such updates is generally applicable to the 2024 CDR reporting cycle.

EPA intends to host a webinar to enable a preview of the updated CDR reporting tool in the Fall of 2023 and expects to conduct beta-testing of the reporting tool following the webinar. Entities that are interested in participating in beta testing can inform EPA by sending an email to eCDRweb@epa.gov with the subject heading “2024 CDR beta testing” either now or following the webinar. EPA will announce the date and access information for the webinar through a number of venues. EPA will seek to incorporate improvements from this testing prior to the official submission period. The Agency has previously incorporated feedback from industry to improve the reporting tool and intends to provide this opportunity once again.

B. What is new for 2024 CDR reporting?

For reporting during the 2024 and future submission periods, submitters are required to use for all chemical substances the OECD-based codes that were partially implemented for the 2020 CDR, as a result of the TSCA CDR Revisions Rule (85 FR 20122 April 9, 2020 (FRL-10005-56). These codes are listed in column A of the tables in the regulatory text 40 CFR 711.15(b)(4)(i)(C)(2) and 40 CFR 711.15(b)(4)(ii)(A)(2)) and in the Instructions for Reporting, Appendix D. Otherwise, the 2024 reporting requirements are similar to the requirements from the 2020 CDR reporting cycle, though reporting requirements are applicable for activities conducted during the calendar years 2020 through 2023.

C. What can you do now to prepare for your submission?

For the 2020 through 2022 reporting period, potentially affected entities should collect chemical identity and production volume. For 2023, such entities should also collect the more detailed manufacturing, processing and use information as required for principal year reporting. Please keep in mind that reporting is required for all four years if the threshold is reached in any one year (e.g., if the threshold is reached in 2023 but not in earlier years, the production volume information is still required to be reported for each of the years 2020 through 2023; similarly, if the threshold is reached for 2020, 2021, or 2022, but not for 2023, then detailed reporting for 2023 would nevertheless be required, unless the 2023 production volume is zero).

EPA encourages potentially affected entities who have not already started to collect information to support CDR reporting to begin compliance determination and information collection activities. The Agency also encourages reporting entities to confirm their accounts with EPA's Central Data Exchange (CDX) and the CDR reporting tool (e-CDRweb) in advance of the submission period.

If your Authorized Official has changed, you may register a new Authorized Official to access past submissions in CDX. To help improve the transition to a new Authorized Official, EPA encourages the use of a transferrable email such as “AO@companyname.com”. You may also register Agents and Supports (Agent and Support Description) prior to the opening of the CDR submission period. If there are multiple organizations or sites listed in EPA's Facility Registry Services (FRS), confirm that you are registering for the correct listing by reviewing your copy of record from a past submission or by asking the CDX help desk for assistance.

If you do not have access to your 2020 CDR or your copy of record, you may request a copy of record by submitting a request through the CDX TSCA communications module.

For more information, visit EPA's Chemical Data Reporting website available at: https://www.epa.gov/cdr. You may also obtain help by contacting EPA's TSCA Hotline at tsca-hotline@epa.gov or 202-554-1404 or by sending an email to eCDRweb@epa.gov. For help with accessing your CDX account, please contact the CDX help desk at https://cdx.epa.gov/contact or (888) 890-1995 (for international callers: (970) 494-5500).

Authority: 15 U.S.C. 2607(a).

Dated: June 16, 2023.
Michal Freedhoff,
Assistant Administrator, Office of Chemical Safety and Pollution Prevention.

[FR Doc. 2023-13254 Filed 6-21-23; 8:45 am]

BILLING CODE 6560-50-P